DEPARTMENT OF ENERGY

Federal Energy Regulatory Commission

[Project No. 15108-000]

Premium Energy Holdings, LLC; Notice of Preliminary Permit Application Accepted for Filing and Soliciting Comments, Motions To Intervene, and Competing Applications

On March 10, 2021, Premium Energy Holdings LLC, filed an application for a preliminary permit, pursuant to section 4(f) of the Federal Power Act (FPA), proposing to study the feasibility of the San Onofre Ocean Pumped Storage Project (San Onofre Project or project), an ocean pumped storage power plant to be located in San Diego County, California. The project would occupy federal land managed by the Department of Defense, Camp Pendleton. The sole purpose of a preliminary permit, if issued, is to grant the permit holder priority to file a license application during the permit term. A preliminary permit does not authorize the permit holder to perform any land-disturbing activities or otherwise enter upon lands or waters owned by others without the owners' express permission.

The proposed project would consist of the following: (1) a new 266-foot-high embankment with a total crest length of 3,850 feet, creating the 26,400 acre-foot upper reservoir, called San Onofre reservoir, with a maximum surface elevation of 915 feet above mean sea level (msl); (2) two proposed alternatives to draw water from the Pacific Ocean for the fill-up process of the proposed San Onofre reservoir and for normal operation: (a) impound intake/discharge facility (Lagoon), including a new proposed semi-open lower reservoir in the ocean close to the coast, cutting part of the existing submarine cooling pipes to an estimated length of 1,400 feet, constructing a new breakwater embankment around the lagoon to create this ocean reservoir, and constructing a pier to connect the beach and the breakwater embankment; (b) open intake/discharge using the ocean as the lower reservoir, consisting cutting part of the existing submarine cooling pipes to an estimated length of 2,500 feet; either alternative requires a new section of pipes that will reroute the existing cooling pipes assembly to the proposed powerhouse; (3) a 41-foot-diameter, 1.2-mile-long hydro power penstock to connect to the new San Onofre pump storage plant, and from there to the Pacific Ocean; (4) three additional upper reservoirs with maximum surface elevation of 915 feet above msl and storage capacity of 2,300-, 3,500-, and 6,800-acre-foot, to increase the storage capacity acting as a reserve in case of need for generation beyond the capacity of the main reservoir; (5) a new powerhouse containing six 250-megawatt (MW) pump-generator sets with a total installed capacity of 1,500 MW; (6) an array of four velocity caps at the end of each existing submersible pipe, that were used to draw water from the ocean for pumping, to reduce water velocity to values about 1 ft/sec or less; (7) a fish deterrent system at the end of each existing submersible pipe; (8) a new underground drainpipe for San Onofre reservoir spill water; (9) nine existing transmission lines that belong to SCE and SDG&E, and are operated by CAISO and interconnect the proposed San Onofre plant substation to the existing 220-kilovolt switchyard; and (10) appurtenant facilities. The estimated average annual generation of the San Onofre Project will be 5,250 gigawatt-hours.

Applicant Contact: Victor M. Rojas, Premium Energy Holdings LLC, 355 South Lemon Ave., Suite A, Walnut, CA 91789; phone: (909) 595-5314.

FERC Contact: Khatoon Melick, (202) 502-8433, khatoon.melick@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15108-000.

More information about this project, including a copy of the application, can be viewed or printed on the “eLibrary” link of Commission's website at https://elibrary.ferc.gov/eLibrary/search. Enter the docket number (P-15108) in the docket number field to access the document. For assistance, contact FERC Online Support.

Dated: June 11, 2024.
Debbie-Anne A. Reese,
Acting Secretary.

[FR Doc. 2024-13288 Filed 6-14-24; 8:45 am]

BILLING CODE 6717-01-P